DEPARTMENT OF COMMERCE

National Oceanic and Atmospheric Administration

50 CFR Part 648

[I.D. 091701D]

Mid-Atlantic Fishery Management Council; Public Meetings and a Public Hearing

AGENCY: National Marine Fisheries Service (NMFS), National Oceanic and Atmospheric Administration (NOAA), Commerce.

ACTION: Public meetings and a public hearing.

SUMMARY: The Mid-Atlantic Fishery Management Council (Council) and its Ecosystem Management Committee and Executive Committee will hold public meetings and a public hearing.

DATES: The meetings will be held on Tuesday, October 9, to Thursday, October 11, 2001. See SUPPLEMENTARY INFORMATION for specific dates and times.

ADDRESSES: The meetings will be held at the New Bern Riverfront Convention Center, New Bern, NC; telephone: 252-637-1551.

Council address: Mid-Atlantic Fishery Management Council, 300 S. New Street, Dover, DE 19904, telephone: 302-674-2331.

FOR FURTHER INFORMATION CONTACT: Daniel T. Furlong, Executive Director, Mid-Atlantic Fishery Management Council; telephone: 302-674-2331, ext. 19.

SUPPLEMENTARY INFORMATION:

Meeting Dates

Tuesday, October 9, 2001, from 10 a.m. to 11 a.m. New Member Orientation.

Tuesday, October 9, 2001, from 11 a.m. to 11:30 a.m. Council convenes for the purpose of swearing in new and reappointed Council members and the election of officers.

Tuesday, October 9,.2001, from 12:30 p.m. to 3 p.m. The Ecosystem Management Committee will meet.

Tuesday, October 9, 2001, from 3 p.m. to 4 p.m. A presentation on Atlantic Coast Bottlenose Dolphin Take Reduction Team activities will take place.

Wednesday, October 10, 2001, from 8 a.m. to 4:30 p.m. Council will meet.

Thursday, October 11, 2001, from 8 a.m. to 10 a.m. The Executive Committee will meet.

Thursday, October 11, 2001, from 10 a.m. to noon. A public hearing will be convened by the Council at NMFS request to take public comment on a regulatory amendment for the FMP for Summer Flounder, Scup, and Black Sea Bass.

Thursday, October 11, 2001, from 10 a.m. to 4 p.m. Council will meet.

Agenda items for the committees and Council meeting(s), as appropriate, are: Review status of Magnuson-Stevens Act reauthorization, especially as regards inclusion of statutory provisions requiring Councils to adopt ecosystem management planning as part of Councils’ charters, discuss and develop committee actions necessary to provide guidance and direction to Council for development of potential ecosystem management approaches in Mid-Atlantic area (Ecosystem Management Committee); overview of Marine Mammal Protection Act, status of Atlantic Bottlenose Dolphin (BND) stocks along the Atlantic Coast including estimates of abundance and potential biological removal levels, BND/fishery interactions including estimates of mortality and identification of problem fisheries (gears/areas/seasons), BND Take Reduction Plan development under the Marine Mammal Protection Act; review and discuss Monkfish Committee’s recommendations on monkfish management measures for 2002/2003 fishing year, approve management measures for 2002/2003 fishing year; review and discuss Dogfish Committee’s actions regarding Amendment 1 to the Spiny Dogfish Fishery Management Plan, review and discuss Dogfish Committee’s recommendations on dogfish management measures for 2002/03 fishing year, adopt management measures for 2002/03 fishing year; Information and Education Program on marine protected areas (MPAs); review annual work plan for 2002, review status of FY2001 budget, and review status of FY2002 grant application (Executive Committee); hear organizational and committee reports including the New England Council's report where the Council may address possible actions on herring, groundfish, monkfish, red crab, scallops, skates, and whiting.

On Thursday, October 11, the Council will convene a public hearing to take public comment on a proposed regulatory amendment to the Fishery Management Plan for Summer Flounder, Scup and Black Sea Bass Fisheries (FMP). The FMP requires NMFS to compile all landings information and compare annual landings to the quotas allocated. Landings in excess of a quote are required to be deducted from the quota allocations in the following fishing year. Because the fishing year does not end until December 31 in any year, it is impossible to have a final accounting of annual landings at the time the specifications are published for the fishing year that begins on January 1. NMFS will review several alternatives under consideration that would allow the annual landings to be tabulated in sufficient time to make the overage deductions in the annual specifications. Although non-emergency issues not contained in this agenda may come before the Council for discussion, these issues may not be the subject of formal Council action during this meeting. Council action will be restricted to those issues specifically listed in this notice and any issues arising after publication of this notice that require emergency action under section 305(c) of the Magnuson-Stevens Act, provided the public has been notified of the Council’s intent to take final actions to address such emergencies.

Special Accommodations

This meeting is physically accessible to people with disabilities. Requests for sign language interpretation or other auxiliary aids should be directed to Joanna Davis (see ADDRESSES) at least 5 days prior to the meeting date.

Dated: September 20, 2001.
Richard W. Surdi,
Acting Director, Office of Sustainable Fisheries, National Marine Fisheries Service.

[FR Doc. 01-23975 Filed 9-24-01; 8:45 am]

BILLING CODE 3510-22-S